FEDERAL COMMUNICATIONS COMMISSION

Radio Broadcasting Services; AM or FM Proposals To Change the Community of License

AGENCY: Federal Communications Commission.

ACTION: Notice.

SUMMARY: The following applicants filed AM or FM proposals to change the community of license: ATLANTIC COAST RADIO, LLC, Station WLOB-FM, Facility ID 9180, BPH-20070924AGC, To GRAY, ME, From RUMFORD, ME; CHRISTYAHNA BROADCASTING, INC., Station NEW, Facility ID 160820, BNP-20070926AMO, To SANTEE, CA, From LEMON GROVE, CA; COLLEGE CREEK MEDIA, LLC, Station KYEN, Facility ID 164151, BMPH-20071010ACF, To SEVERENCE, CO, From CHEYENNE, WY; MITCHELL COMMUNITY BROADCASTING CO., Station WPHZ, Facility ID 43248, BPH-20070831ACV, To ORLEANS, IN, From MITCHELL, IN; SHOECRAFT BROADCASTING, INC., Station KIKO, Facility ID 72477, BP-20071002ADQ, To QUEEN CREEK, AZ, From MIAMI, AZ; THE LAST BASTION STATION TRUST, LLC, AS TRUSTEE, Station WCLZ, Facility ID 56569, BPH-20070917ABH, To NORTH YARMOUTH, ME, From BRUNSWICK, ME; TICHENOR LICENSE CORPORATION, Station KPTY, Facility ID 57806, BPH-20070914ACP, To DEER PARK, TX, From MISSOURI CITY, TX; UNIVISION RADIO HOUSTON LICENSE CORPORATION, Station KLTN, Facility ID 65310, BPH-20070914ACQ, To MISSOURI CITY, TX, From HOUSTON, TX.

DATES: Comments may be filed through January 18, 2008.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division, Media Bureau.

[FR Doc. E7-22602 Filed 11-16-07; 8:45 am]

BILLING CODE 6712-01-P